DEPARTMENT OF AGRICULTURE

Submission for OMB Review; Comment Request

February 4, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Research Data Archive Use Tracking System.

OMB Control Number: 0596-0210.

Summary of Collection: Authorized under 16 U.S.C. 1645(c), Forest Service Research and Development (FS R&D) plans to create a data archive to store and disseminate data collected in the course of its scientific research. This archive will provide a sound balance between meeting obligations to scientific staff and ease-of-access by the public (research community). The information provided by this collection will assist FS R&D personnel in evaluating the research program.

Need and Use of the Information: Form FS 4000-5, General Data Use Agreement, will be used to collect the information electronically. When a member of the public requests a copy of a data set, FS R&D will collect the name, affiliation, contact information (including e-mail address), Statement of Intended Use and Data Use Agreement. FS archive staff will review the individual Data Use Agreements prior to approving release of the data set to the requestor. The collection of Data Use Agreements will be evaluated by the data archiving program to identify opportunities for improving the archive's function and offerings.

Description of Respondents: Not-for-profit Institutions.

Number of Respondents: 100.

Frequency of Responses: Reporting: Yearly.

Total Burden Hours: 25.

Charlene Parker,
Departmental Information Collection Clearance Officer.

[FR Doc. 2011-2893 Filed 2-8-11; 8:45 am]

BILLING CODE 3410-11-P